ENVIRONMENTAL PROTECTION AGENCY

[FRL-12059-01-R3]

Clean Air Act Operating Permit Program; Order on Petition for Objection to State Operating Permit for Union Carbide Corporation, Union Carbide Institute Facility

AGENCY: Environmental Protection Agency (EPA).

ACTION: Notice of final order on petition.

SUMMARY: The Environmental Protection Agency (EPA) Administrator signed an order dated May 24, 2024 granting a petition dated October 27, 2023 from People Concerned About Chemical Safety (PCACS) and Earthjustice. The petition requested that the EPA object to a Clean Air Act (CAA) title V operating permit issued by the West Virginia Department of Environmental Protection's Division of Air Quality (WVDEP) to Union Carbide Institute Facility for its Logistics Unit and the Catalyst Plant located in Kanawha County, West Virginia.

FOR FURTHER INFORMATION CONTACT: Joseph Whapham, EPA Region 3, (215) 814-2160, Whapham.Joseph@epa.gov. The final order and petition are available electronically at: www.epa.gov/title-v-operating-permits/title-v-petition-database.

SUPPLEMENTARY INFORMATION: The EPA received a petition from PCACS and Earthjustice dated October 27, 2023, requesting that the EPA object to the issuance of operating permit No. R30-03900005-2023, issued by WVDEP to Union Carbide Institute Facility in Kanawha County, West Virginia. On May 24, 2024, the EPA Administrator issued an order granting, the petition. The order itself explains the basis for the EPA's decision.

Cristina Fernández,
Division Director, Region III.

[FR Doc. 2024-16355 Filed 7-24-24; 8:45 am]

BILLING CODE 6560-50-P